DEPARTMENT OF ENERGY

Federal Energy Regulatory Commission

Combined Notice of Filings

Take notice that the Commission has received the following Natural Gas Pipeline Rate and Refund Report filings:

Filings Instituting Proceedings

Docket Number: PR16-69-000.

Applicants: Pacific Gas and Electric Company.

Description: Tariff filing per 284.123(b)(1) + (g): Revisions to Appendix A of Statement of Operating Conditions to be effective 8/1/2016; Filing Type: 1300.

Filed Date: 8/29/2016.

Accession Number: 201608295318, http://elibrary.ferc.gov/idmws/doc_info.asp?accession_num=20160415-5222.

Comments Due: 5 p.m. ET 9/19/16.

284.123(g) Protests Due: 5 p.m. ET 10/28/16.

Docket Numbers: RP16-1195-000.

Applicants: Algonquin Gas Transmission, LLC.

Description: § 4(d) Rate Filing: Neg Rate—BBPC Release to Macquarie Energy 792012 to be effective 9/1/2016.

Filed Date: 8/30/16.

Accession Number: 20160830-5113.

Comments Due: 5 p.m. ET 9/12/16.

Docket Numbers: RP16-1196-000.

Applicants: Algonquin Gas Transmission, LLC.

Description: § 4(d) Rate Filing: Neg Rates—Mpower Energy Releases to Enhanced Energy to be effective 9/1/2016.

Filed Date: 8/30/16.

Accession Number: 20160830-5136.

Comments Due: 5 p.m. ET 9/12/16.

Docket Numbers: RP16-1197-000.

Applicants: Algonquin Gas Transmission, LLC.

Description: § 4(d) Rate Filing: Neg Rates—Ratio Energy contract 792017 to be effective 9/1/2016.

Filed Date: 8/30/16.

Accession Number: 20160830-5203.

Comments Due: 5 p.m. ET 9/12/16.

Docket Numbers: RP16-1198-000.

Applicants: Ruby Pipeline, L.L.C.

Description: § 4(d) Rate Filing: EPC and Fuel Update Filing to be effective 10/1/2016.

Filed Date: 8/30/16.

Accession Number: 20160830-5239.

Comments Due: 5 p.m. ET 9/12/16.

Docket Numbers: RP16-1199-000.

Applicants: Transcontinental Gas Pipe Line Company.

Description: § 4(d) Rate Filing: Negotiated Rates—Cherokee AGL—Replacement Shippers—Sep 2016 to be effective 9/1/2016

Filed Date: 8/31/16.

Accession Number: 20160831-5000.

Comments Due: 5 p.m. ET 9/12/16.

Docket Numbers: RP16-1200-000.

Applicants: Kern River Gas Transmission Company.

Description: § 4(d) Rate Filing: 2016 Nonconforming October 2016 P2 Contract to be effective 10/1/2016.

Filed Date: 8/31/16.

Accession Number: 20160831-5010.

Comments Due: 5 p.m. ET 9/12/16.

Docket Numbers: RP16-1201-000.

Applicants: Gulf South Pipeline Company, LP.

Description: § 4(d) Rate Filing: Cap Rel Neg Rate Agmt (Atlanta 8438 to various eff 9-1-2016) to be effective 9/1/2016.

Filed Date: 8/31/16.

Accession Number: 20160831-5108.

Comments Due: 5 p.m. ET 9/12/16.

Docket Numbers: RP16-1202-000.

Applicants: Gulf South Pipeline Company, LP.

Description: § 4(d) Rate Filing: Cap Rel Neg Rate Agmts (Encana 37663 to ConocoPh 46987, Texla 46986) to be effective 9/1/2016.

Filed Date: 8/31/16.

Accession Number: 20160831-5109.

Comments Due: 5 p.m. ET 9/12/16.

Docket Numbers: RP16-1203-000.

Applicants: Bear Creek Storage Company, L.L.C.

Description: Compliance filing Cost and Revenue Study.

Filed Date: 8/31/16.

Accession Number: 20160831-5110.

Comments Due: 5 p.m. ET 9/12/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 31, 2016.
Nathaniel J. Davis, Sr.,
Deputy Secretary.

[FR Doc. 2016-21555 Filed 9-6-16; 8:45 am]

BILLING CODE 6717-01-P